DEPARTMENT OF STATE

[Public Notice 9039]

Notice of Proposal To Extend the Memorandum of Understanding Between the Government of United States of America and the Government of the Republic of Italy Concerning the Imposition of Import Restrictions on Categories of Archaeological Material Representing the Pre-Classical, Classical, and Imperial Roman Periods of Italy

The Government of the Republic of Italy has informed the Government of the United States of America of its interest in an extension of the Memorandum of Understanding Between the Government of United States of America and the Government of the Republic of Italy Concerning the Imposition of Import Restrictions on Categories of Archaeological Material Representing the Pre-Classical, Classical, and Imperial Roman Periods of Italy (“MOU”).

Pursuant to the authority vested in the Assistant Secretary of State for Educational and Cultural Affairs, and pursuant to the requirement under 19 U.S.C. 2602(f)(1), an extension of this MOU is hereby proposed.

Pursuant to 19 U.S.C. 2602(f)(2), the views and recommendations of the Cultural Property Advisory Committee regarding this proposal will be requested.

A copy of the MOU, the Designated List of restricted categories of material, and related information can be found at the following Web site: http://culturalheritage.state.gov.

Dated: February 9, 2015.
Evan Ryan,
Assistant Secretary, Bureau of Educational and Cultural Affairs, U.S. Department of State.

[FR Doc. 2015-03311 Filed 2-17-15; 8:45 am]

BILLING CODE 4710-05-P